DEPARTMENT OF HEALTH AND HUMAN SERVICES

Health Resources and Services Administration

Discretionary Grant Program

AGENCY: Health Resources and Services Administration (HRSA), HHS.

ACTION: Notice of Single Single-Case Deviation: Administrative Supplement From Competition Requirements for the Maternal and Child Health Bureau's (MCHB) National Center for Community Based Services.

SUMMARY: HRSA will be issuing a non-competitive award to the National Center for Community Based Services program. The 1-year award for $449,125 will be made available in the form of a cooperative agreement to the current grantee, University of Massachusetts, during the budget period July 1, 2013, through June 30, 2014. This will provide feasible time for the Maternal and Child Health Bureau (MCHB) to align fiscal resources and programmatic goals with the least disruption to the states, communities, and constituencies that currently receive leadership, assistance, and services.

SUPPLEMENTARY INFORMATION: Intended Recipient of the Award: National Center for Community Based Services/University of Massachusetts (U42MC18283).

Amount of the Non-Competitive Awards: $449,125.

CFDA Number: 93.110.

Period of Supplemental Funding: July 1, 2013, through June 30, 2014.

Authority: Section Title V, Section 501(a)(2) of the Social Security Act, as amended.

Justification: As authorized by section 501(a)(2) of the Social Security Act, MCHB's Division of Children with Special Health Needs is responsible for facilitating the development of community-based systems of services for children and youth with special health care needs (CYSCHN).

To meet this legislative mandate, the Division funds the National Center for Community Based Services and the State Implementation Grant Program (D70). The National Center for Community Based Services (U42MC18283), a cooperative agreement funded at $449,125 per year for a 3-year project period, is due to end June 30, 2013. This national center focuses on improving access to services for underserved CYSHCN and their families, especially those from Latino Families. The D70 grant program has had several funding cycles since 2005, with a minimum of six grants in each cycle. In fiscal year (FY) 2014, the project period for eight of the D70 grants will end. At that time, the Division plans to begin a new cycle of D70 competitive awards to states to improve the system of services for CYSHCN.

The Division explored several grant funding options that would align with its strategic goals of funding entities to improve the services for CYSHCN at the state and community levels. The amount available in FY 2013 could only fund two D70 grants and would not provide the grantees with a peer learning community that has existed with previous cycles. Moreover, the resources and objective review costs for a funding cycle for only two grants is not cost effective. Therefore, in lieu of a D70 competition in FY 2013, the Division proposes to use these funds to extend the project period for the National Center for Community Based Services (U42MC18283) for 1 year until June 30, 2014. At that time, with the project period ending for the eight D70 grants, all funds will be available for a new, competitive cycle of D70 grants in 2014.

The MCHB proposes the 1-year non-competitive funding action for three strategic programmatic reasons: (1) To appropriately spend the necessary preparation time to complete a full grant competition aligned with the Division's strategic goals; (2) to provide for sufficient fiscal resources to continue programmatic activities; and (3) to maintain MCHB programmatic support with the least disruption to the state, community, and maternal and child health constituencies who are currently receiving assistance and services from these grantees, and the grantees themselves.

FOR FURTHER INFORMATION CONTACT: Sylvia Sosa, Integrated Services Branch, Division of Services for Children with Special Health Needs, Maternal and Child Health Bureau, Health Resources and Services Administration, 5600 Fishers Lane, Room 13-61, Rockville, Maryland 20857; 301-443-2259; ssosa@hrsa.gov.

Dated: May 17, 2013.
Mary K. Wakefield,
Administrator.

[FR Doc. 2013-12344 Filed 5-23-13; 8:45 am]

BILLING CODE 4165-15-P